DEPARTMENT OF LABOR

Office of the Secretary

Submission for OMB Review; Comment Request

September 24, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail: King-Darrin@dol.gov.

Comments should be sent to Office of Information and Regulatory Affairs, Attn: Stuart Shapiro, OMB Desk Officer MSHA, Office of Management and Budget, Room 10235, Washington, DC 20503 ((202) 395-7316), within 30 days of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Training Plan Regulations—30 CFR 48.3 and 48.23.

OMB Number: 1219-0009.

Affected Public: Business or other for-profit.

Type of Response: Recordkeeping and Reporting.

Frequency: On Occasion.

Number of Respondents: 1,294.

Number of Annual Responses: 1,294.

Average Time Per Response: 8 hours.

Annual Burden Hours: 10,352.

Total Annualized Capital/Startup Costs: $0.

Total Annual Costs (operating/maintaining systems or purchasing services): $2,588.

Description: 30 CFR 48.3 and 48.23 require coal mine operators to have an MSHA approved training plan containing programs for training new miners; newly-employed miners; miners receiving new tasks; annual refresher training, and hazardous training to ensure that miners will be effectively trained in matters affecting their health and safety, with the ultimate goal being the reduction of the frequency and severity of injuries in the nation's mines.

Agency: Mine Safety and Health Administration (MSHA).

Type of Review: Extension of a currently approved collection.

Title: Application for Waiver of Surface Facilities Requirements.

OMB Number: 1219-0024.

Affected Public: Business or other for-profit.

Type of Response: Reporting.

Frequency: On Occasion.

Number of Respondents: 546.

Number of Annual Responses: 546.

Average Time Per Response: 10 minutes.

Annual Burden Hours: 221.

Total Annualized Capital/Startup Costs: $0.

Total Annual Costs (operating/maintaining systems or purchasing services): $0.

Description: 30 CFR 71.403, 71.404, 75.1712-4, and 75.1712-5 require coal mine operators to provide bathing facilities, clothing changing rooms, and sanitary flush toilet facilities in a location convenient for the use of the miners. If the operator is unable to meet any or all of the requirements, he/she may apply for a waiver. Applications are filed with the District Manager for the district in which the mine is located.

Agency: Mine Safety and Health Administration (MSHA).

Type of Review: Extension of a currently approved collection.

Title: Representative of Miners.

OMB Number: 1219-0042.

Affected Public: Business or other for-profit.

Type of Response: Recordkeeping; Reporting; and Third-party disclosure.

Frequency: On Occasion.

Number of Respondents: 108.

Number of Annual Responses: 108.

Average Time Per Response: 45 minutes.

Annual Burden Hours: 81.

Total Annualized Capital/Startup costs: $0.

Total Annual Costs (operating/maintaining systems or purchasing services): $0.

Description: The Federal Mine Safety and Health Act of 1977 requires the Secretary of Labor to exercise many of her duties under the Act in cooperation with miners' representatives. The Act also establishes miners' rights which must be exercised through a representative. 30 CFR 40.3, 40.4, and 40.5 contain procedures which a person or organization must follow in order to be identified by the Secretary as a representative of miners.

Agency: Mine Safety and Health Administration (MSHA).

Type of Review: Extension of a currently approved collection.

Title: Escape and Evacuation Plans.

OMB Number: 1219-0046.

Affected Public: Business or other for-profit.

Type of Response: Recordkeeping; Reporting; and Third-party disclosure.

Frequency: On occasion.

Number of Respondents: 284.

Number of Annual Responses: 568.

Average Time Per Response: 8 hours.

Annual Burden Hours: 4,544.

Total Annualized Capital/Startup costs: $0.

Total Annual Costs (operating/maintaining systems or purchasing services): $1,704.

Description: 30 CFR 57.11053 requires underground Metal and Nonmetal mine operators to develop an escape and evacuation plan addressing the unique conditions of the mine. Plans are required to be reviewed every six months and revisions submitted to MSHA as necessary.

Agency: Mine Safety and Health Administration (MSHA).

Type of Review: Extension of a currently approved collection.

Title: Certificate of Training—30 CFR 48.9 and 48.29.

OMB Number: 1219-0070.

Affected Public: Business or other for-profit.

Type of Response: Recordkeeping.

Frequency: Annually.

Number of Respondents: 3,730.

Number of Annual Responses: 105,050.

Average Time Per Response: 5 minutes.

Annual Burden Hours: 8,393.

Total Annualized Capital/Startup costs: $0.

Total Annual Costs (operating/maintaining systems or purchasing services): $210,074.

Description: The MSHA Form 5000-23, Certificate of Training, is required by 30 CFR part 48.9 and 48.29 and is used by mine operators to record mandatory training received by miners. The form provides the mine operator with a recordkeeping form, the miner with a certificate of training, and MSHA with a monitoring tool for determining mine operator compliance.

Darrin A. King,
Acting Departmental Clearance Officer.

[FR Doc. 01-24323 Filed 9-27-01; 8:45 am]

BILLING CODE 4510-43-M